DEPARTMENT OF TRANSPORTATION

Pipeline and Hazardous Materials Safety Administration

[Docket No. PHMSA-05-21314; Notice 1]

Pipeline Safety: Petition for Waiver; BOC Gases

AGENCY: Office of Pipeline Safety (OPS), Pipeline and Hazardous Materials Safety Administration (PHMSA), U.S. Department of Transportation (DOT).

ACTION: Notice; Petition for Waiver; Correction.

SUMMARY: PHMSA is correcting a petition for waiver published in the Federal Register on July 14, 2005 (70 FR 40780). That petition, from BOC Gases (BOC), requested a waiver from the pipeline safety standards at 49 CFR 195.306(c)(5) to allow the use of inert gas or carbon dioxide as the test medium for pressure testing an existing carbon dioxide pipeline. This notice corrects the supplementary information of that publication, which referred to a gas pipeline safety regulation when it should have referred to a hazardous liquid pipeline safety regulation.

FOR FURTHER INFORMATION CONTACT: James Reynolds by phone at 202-366-2786, by fax at 202-366-4566, by mail at DOT, PHMSA Office of Pipeline Safety, 400 7th Street, SW., Washington, DC 20590, or by e-mail at james.reynolds@.dot.gov.

Correction

In the Federal Register of July 14, 2005, in FR Doc. 05-13864, on page 40781, in the first column, correct the first paragraph of the SUPPLEMENTARY INFORMATION caption to read:

SUPPLEMENTARY INFORMATION: The hazardous liquid pipeline safety regulation at 49 CFR 195.306(c)(5) allows an operator of a carbon dioxide pipeline to use inert gas or carbon dioxide as the test medium if the pipe involved is new pipe having a longitudinal joint factor of 1.00.

Issued in Washington, DC on August 1, 2005.
Joy Kadnar,
Director of Engineering and Emergency Support.

[FR Doc. 05-15757 Filed 8-9-05; 8:45 am]

BILLING CODE 4910-60-P